DEPARTMENT OF STATE

[Public Notice 6237]

Determination on Provision of Assistance for Sudan

Pursuant to section 451 of the Foreign Assistance Act of 1961, as amended (the “Act”)(22 U.S.C. 2261), and Section 1-100(a)(1) of Executive Order 12163, as amended, I hereby authorize, notwithstanding any other provision of law, the use of up to $3 million in Fiscal Year 2008 Peacekeeping Operations (PKO) funds available under Chapter 6 of Part II of the Act, in order to provide, for any unanticipated contingencies, assistance authorized by Part I of the Act (which is deemed to include references to Chapter 6 of Part II) for Sudan.

This determination shall be reported to Congress promptly and published in the Federal Register.

Dated: April 25, 2008.
John D. Negroponte,
Deputy Secretary of State, Department of State.

[FR Doc. E8-11894 Filed 5-27-08; 8:45 am]

BILLING CODE 4710-26-P